NUCLEAR REGULATORY COMMISSION

[Docket No. 50-354]

Public Service Electric & Gas Company (PSE&G); Notice of Withdrawal of Application for Amendment to Facility Operating License

The U.S. Nuclear Regulatory Commission (the Commission) has granted the request of PSE&G (the licensee) to withdraw its February 24, 2000, application for proposed amendment to Facility Operating License No. NPF-57 for the Hope Creek Generating Station, located in Salem County, New Jersey.

The proposed amendment would have approved a revision to the Hope Creek Generating Station Updated Final Safety Analysis Report to reflect the use of the Mechanical Vacuum Pumps to evacuate the condenser during plant startup at power levels less than or equal to 5%.

The Commission had previously issued a Notice of Consideration of Issuance of Amendment published in the Federal Register on March 22, 2000 (65 FR15384). However, by letter dated July 31, 2000, the licensee withdrew the proposed change.

For further details with respect to this action, see the application for amendment dated February 24, 2000, and the licensee's letter dated July 31, 2000, which withdrew the application for license amendment. The above documents are available for public inspection at the Commission's Public Document Room, the Gelman Building, 2120 L Street, NW., Washington, DC, and accessible electronically through the ADAMS Public Electronic Reading Room link at the NRC Web site

(http://www.nrc.gov).

Dated at Rockville, Maryland, this 14th day of August, 2000.
For the Nuclear Regulatory Commission.
John Harrison,
Project Manager, Section 2, Project Directorate I, Division of Licensing Project Management, Office of Nuclear Reactor Regulation.

[FR Doc. 00-22031 Filed 8-28-00; 8:45 am]

BILLING CODE 7590-01-P